FEDERAL MARITIME COMMISSION

Notice of Agreement Filed

The Commission hereby gives notice of the filing of the following agreement under the Shipping Act of 1984. Interested parties may submit comments on the agreement to the Secretary, Federal Maritime Commission, Washington, DC 20573, within twelve days of the date this notice appears in the Federal Register. A copy of the agreement is available through the Commission's Web site (www.fmc.gov) or by contacting the Office of Agreements at (202) 523-5793 or tradeanalysis@fmc.gov.

Agreement No.: 012291.

Title: Maersk Line/MSC WCCA Space Charter Agreement.

Parties: A.P. Moller-Maersk A/S trading under the name of Maersk Line; and MSC Mediterranean Shipping Company S.A.

Filing Party: Wayne Rohde, Esq.; Cozen O'Connor; 1627 I Street NW., Suite 1100; Washington, DC 20006.

Synopsis: The agreement would authorize Maersk Line to charter space to MSC in the northbound trade from the port of Balboa, Panama to Los Angeles, CA. The parties have requested expedited review.

By Order of the Federal Maritime Commission.
Karen V. Gregory,
Secretary.

[FR Doc. 2014-20374 Filed 8-26-14; 8:45 am]

BILLING CODE 6730-01-P